DEPARTMENT OF TRANSPORTATION

Federal Aviation Administration

14 CFR Part 39

[Docket No. FAA-2025-4001; Project Identifier MCAI-2025-01627-A; Amendment 39-23191; AD 2025-23-08]

RIN 2120-AA64

Airworthiness Directives; Textron Aviation Inc. (Type Certificate Previously Held by Cessna Aircraft Company) Airplanes

AGENCY: Federal Aviation Administration (FAA), DOT.

ACTION: Final rule; request for comments.

SUMMARY: The FAA is adopting a new airworthiness directive (AD) for certain Textron Aviation Inc. Model 182Q and 182R airplanes. This AD was prompted by reports of damaged intercooler inlet and outlet hoses. This AD requires repetitive visual inspections of the intercooler inlet and outlet hoses for cracks and, at a certain compliance time or if any cracks are found, replacement of the intercooler inlet and outlet hoses. The FAA is issuing this AD to address the unsafe condition on these products.

DATES: This AD is effective December 2, 2025.

The Director of the Federal Register approved the incorporation by reference of a certain publication listed in this AD as of December 2, 2025.

The FAA must receive comments on this AD by January 2, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-4001; or in person at Docket Operations between 9 a.m. and 5 p.m., Monday through Friday, except Federal holidays. The AD docket contains this final rule, the mandatory continuing airworthiness information (MCAI), any comments received, and other information. The street address for Docket Operations is listed above.

Material Incorporated by Reference:

• For SMA Aero Engines GmbH material identified in this AD, contact SMA Aero Engines GmbH, AM Flugplatz, D-63329 Egelsbach, Germany; phone: +49 6103 4002 678; email: frederik.lehners@roeder.aero; website: info@roeder.aero.

• You may view this material at the FAA, Airworthiness Products Section, Operational Safety Branch, 901 Locust, Kansas City, MO 64106. For information on the availability of this material at the FAA, call (817) 222-5110. It is also available at regulations.gov under Docket No. FAA-2025-4001.

FOR FURTHER INFORMATION CONTACT: Joseph Catanzaro, Aviation Safety Engineer, FAA, 1600 Stewart Avenue, Suite 410, Westbury, NY 11590; phone: (516) 228-7366; email: joseph.catanzaro@faa.gov.

SUPPLEMENTARY INFORMATION:

Comments Invited

The FAA invites you to send any written data, views, or arguments about this final rule. Send your comments using a method listed under the ADDRESSES section. Include “Docket No. FAA-2025-4001; Project Identifier MCAI-2025-01627-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Joseph Catanzaro, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA Emergency AD 2025-0230-E, dated October 21, 2025 (EASA Emergency AD 2025-0230-E) (also referred to as the MCAI), to correct an unsafe condition on Textron Aviation Inc. Model 182M, 182N, 182P, 182Q, 182R, all serial numbers, and (Reims-manufactured) F182P and F182Q airplanes, all serial numbers, if modified in accordance with EASA Supplemental Type Certificate (STC) 10013975 at Revision 15 or earlier, or (formerly) STC EASA.A.S.00774 (installation of Engine SMA SR305-230 or SR305-230E); and Model 182Q, 182R, all serial numbers, if modified in accordance with EASA STC 10016495 at Revision 1 or earlier, or (formerly) STC EASA.IM.A.S.02857, (installation of Engine SMA SR305-230/-230-1). The MCAI states that occurrences were reported of damaged intercooler air hoses. The MCAI also states that EASA Emergency AD 2025-0230-E is considered an interim action and further AD action may follow. This condition, if not detected and corrected, could result in a loss of manifold pressure and consequent loss of engine power, potentially leading to a forced landing, damage to the airplane, and injury to occupants.

You may examine the MCAI in the AD docket at regulations.gov under Docket No. FAA-2025-4001.

Material Incorporated by Reference Under 1 CFR Part 51

The FAA reviewed SMA Aero Engines GmbH Service Bulletin SB-C182-71-011, Revision No. 01, dated October 20, 2025, which specifies procedures for repetitive visual inspections of the intercooler inlet and outlet hoses for cracks and specifies replacement of any intercooler air hose found cracked. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI and material referenced above. The FAA is issuing this AD after determining that the unsafe condition described previously is likely to exist or develop on other products of the same type design.

AD Requirements

This AD requires accomplishing the actions specified in the material already described.

Differences Between This AD and the MCAI

The MCAI applies to certain Textron Aviation Inc. Model 182M, 182N, 182P, 182Q, 182R and (Reims-manufactured) F182P and F182Q airplanes. This AD does not apply to Models 182M, 182N,182P, and (Reims-manufactured) F182P and F182Q airplanes because EASA STC 10013975 is currently not validated in the United States.

Interim Action

The FAA considers that this AD is an interim action. If final action is later identified, the FAA might consider further rulemaking then.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because damaged intercooler inlet and outlet hoses could result in a loss of manifold pressure. The consequent loss of engine power could lead to a forced landing, damage to the airplane, and injury to occupants, and thus an inspection of these parts is required before further flight. In addition, most of the affected airplanes have already accumulated or are approaching 500 flight hours and thus the mandatory replacement is required either before further flight or within 50 flight hours of operation. These compliance times are shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 10 airplanes of U.S. registry.

The FAA estimates the following costs to comply with this AD:

Estimated Costs
Action | Labor cost | Parts cost | Cost per product | Cost on U.S. operators
Visually inspect intercooler inlet and outlet hoses | 1 work-hours × $85 per hour = $85 | $0 | $85 | $850
Replace intercooler inlet and outlet hoses | 1 work-hours × $85 per hour = $85 | 356 | 441 | 4,410

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-23-08 Textron Aviation Inc. (Type Certificate Previously Held by Cessna Aircraft Company): Amendment 39-23191; Docket No. FAA-2025-4001; Project Identifier MCAI-2025-01627-A.

(a) Effective Date

This airworthiness directive (AD) is effective December 2, 2025.

(b) Affected ADs

None.

(c) Applicability

This AD applies to Textron Aviation Inc. (type certificate previously held by Cessna Aircraft Company) Model 182Q and 182R airplanes, certificated in any category, equipped with an affected part as defined in paragraph (g)(1) of this AD installed in accordance with Supplemental Type Certificate SA03302AT.

(d) Subject

Joint Aircraft System Component (JASC) Code 1410, Hoses and Tubes.

(e) Unsafe Condition

This AD was prompted by reports of damaged intercooler inlet and outlet hoses. The FAA is issuing this AD to detect and correct cracked intercooler inlet and outlet hoses. The unsafe condition, if not addressed, could result in a loss of manifold pressure and consequent loss of engine power, potentially leading to a forced landing, damage to the airplane, and injury to occupants.

(f) Compliance

Comply with this AD within the compliance times specified, unless already done.

(g) Definitions

(1) For the purpose of this AD, an “affected part” is an intercooler inlet or outlet hose having Part Number (P/N) SP01170459-0, P/N SP01170385-1, P/N SP01170460-0, P/N SP01170386-1, P/N 1500004183-1, or P/N 1500004182-1.

(2) For the purpose of this AD a “serviceable part” is an intercooler inlet hose, which is not an affected part; or an affected part which is new or which accumulated less than 500 flight hours since first installation, provided that, within 7 days before installation, it has passed an inspection (no cracks found) in accordance with paragraph 3.A.(a) and (b), Accomplishment Instruction, of SMA Service Bulletin SB-C182-71-011, Rev. 01.

(h) Required Actions

(1) Before further flight after the effective date of this AD and thereafter at intervals not to exceed 50 flight hours: visually inspect each intercooler inlet and outlet hose for any crack in accordance with paragraph 3.A.(a) and (b), Accomplishment Instruction, of SMA Aero Engines GmbH (SMA) Service Bulletin SB-C182-71-011, Revision No. 01, dated October 20, 2025 (SMA Service Bulletin SB-C182-71-011, Rev. 01).

(2) If during any intercooler inlet or outlet hose inspection required by paragraph (h)(1) of this AD, any crack is found, replace the hose, as applicable, with a serviceable part.

(3) Within 500 flight hours since first installation of an affected part on the airplane after the effective date of this AD or before further flight, whichever is later, replace the affected part with a serviceable part.

(i) Parts Installation Prohibition

As of the effective date of this AD, do not install an intercooler inlet or outlet hose on an airplane that is not a serviceable part as defined in paragraph (g)(2) of this AD.

(j) No Reporting Requirement

Although SMA Service Bulletin SB-C182-71-011, Rev. 01, specifies submitting certain information to the manufacturer, this AD does not include that requirement.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD or email to AMOC@faa.gov.

(2) Before using any approved AMOC, notify your appropriate principal inspector, or lacking a principal inspector, the manager of the local flight standards district office/certificate holding district office.

(l) Additional Information

For more information about this AD, contact Joseph Catanzaro, Aviation Safety Engineer, FAA, 1600 Stewart Avenue, Suite 410, Westbury, NY 11590; phone: (516) 228-7366; email: joseph.catanzaro@faa.gov.

(m) Material Incorporated by Reference

(1) The Director of the Federal Register approved the incorporation by reference (IBR) of the material listed in this paragraph under 5 U.S.C. 552(a) and 1 CFR part 51.

(2) You must use this material as applicable to do the actions required by this AD, unless the AD specifies otherwise.

(i) SMA Aero Engines GmbH (SMA) Service Bulletin SB-C182-71-011, Revision No. 01, dated October 20, 2025.

(ii) [Reserved]

(3) For SMA Aero Engines GmbH material identified in this AD, contact SMA Aero Engines GmbH, AM Flugplatz, D-63329 Egelsbach, Germany; phone: +49 6103 4002 678; email: frederik.lehners@roeder.aero; website: info@roeder.aero.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on November 10, 2025.
Steven W. Thompson,
Acting Deputy Director, Compliance & Airworthiness Division, Aircraft Certification Service.

[FR Doc. 2025-19900 Filed 11-13-25; 11:15 am]

BILLING CODE 4910-13-P